DEPARTMENT OF THE TREASURY

Office of Foreign Assets Control

Unblocking of Specially Designated Nationals and Blocked Persons Pursuant to Executive Order 13219, as Amended

AGENCY: Office of Foreign Assets Control, Treasury.

ACTION: Notice.

SUMMARY: The Treasury Department's Office of Foreign Assets Control (OFAC) is removing the names of three individuals whose property and interests in property are being unblocked pursuant to Executive Order 13219 of June 26, 2001, as amended by Executive Order 13304 of May 28, 2003.

DATES: OFAC's actions described in this notice are effective July 9, 2015.

FOR FURTHER INFORMATION CONTACT: Associate Director for Global Targeting, tel.: 202/622-2420, Assistant Director for Sanctions Compliance & Evaluation, tel.: 202/622-2490, Assistant Director for Licensing, tel.: 202/622-2480, or Chief Counsel (Foreign Assets Control), tel.: 202/622-2410 (not toll free numbers).

SUPPLEMENTARY INFORMATION:

Electronic and Facsimile Availability

The list of Specially Designated Nationals and Blocked Persons (SDN List) and additional information concerning OFAC sanctions programs are available from OFAC's Web site (www.treasury.gov/ofac). Certain general information pertaining to OFAC's sanctions programs is also available via facsimile through a 24-hour fax-on-demand service, tel.: 202/622-0077.

Notice of OFAC Actions

On July 9, 2015, OFAC will unblock the property and interests in property of the following individuals pursuant to Executive Order 13219 of June 26, 2001, as amended by Executive Order 13304 of May 28, 2003.

Individuals

ADEMI, Rahim; DOB 30 Jan 1954; POB Karac, Serbia and Montenegro; ICTY indictee (individual) [BALKANS]

LANDZO, Esad; DOB 07 Mar 1973; ICTY indictee (individual) [BALKANS]

LJUBICIC, Pasko; DOB 15 Nov 1965; POB Nezirovic, Bosnia-Herzegovina; ICTY indictee (individual) [BALKANS]

The removal of the individuals listed above from the SDN List is effective as of July 9, 2015. All property and interests in property of these persons that are in or hereafter come within the United States or the possession or control of a United States person are no longer blocked pursuant to E.O. 13219, as amended by E.O. 13304.

Dated: July 2, 2015.
John E. Smith,
Acting Director, Office of Foreign Assets Control.

[FR Doc. 2015-16776 Filed 7-8-15; 8:45 am]

BILLING CODE 4810-AL-P